DEPARTMENT OF AGRICULTURE

Forest Service

Shasta-Trinity National Forest, California; Moosehead Vegetation and Road Management Project

AGENCY: Forest Service, USDA.

ACTION: Notice of intent to prepare an environmental impact statement.

SUMMARY: The Shasta-Trinity National Forest proposes to thin forest stands and reduce fuel loads on approximately 2,300 acres of National Forest System Lands. Overstocked forest stands would be thinned by removing primarily understory and midstory trees to achieve desired stocking. Trees to be removed would generally be smaller in size than trees that would be retained. Some dominant and codominant trees may be removed to attain desired stocking. Forest stand treatments would be accomplished primarily through commercial harvest. Harvest operations would yield sawtimber (logs) and biomass (chips) products. After commercial harvest, fuels would be reduced by treating brush and small diameter trees in the forest understory. Road reconstruction, closure and decommissioning are also proposed. Approximately 22 miles of road would be reconstructed to improve drainage and reduce erosion. The existing open road network would be reduced by decommissioning ¼ mile of road and closing approximately 10 miles of road.

DATES: Comments concerning the scope of the analysis must be received no later than 30 days after the publication of this notice in the Federal Register. The draft environmental impact statement is expected in July 2009 and the final environmental impact statement is expected in November 2009.

ADDRESSES: Send written comments to: District Ranger Priscila S. Franco, Mt. Shasta Ranger Station, 204 W. Alma St., Mt. Shasta, California 96067. Send e-mail comments to: comments-pacificsouthwest-shasta-trinity-mtshasta-mccloud@fs.fed.us.

Comments received in response to this solicitation, including names and addresses of those who comment, will be part of the public record for this proposed action. Comments submitted anonymously will be accepted and considered; however, anonymous comments will not provide the respondent with standing to appeal the subsequent decision.

FOR FURTHER INFORMATION CONTACT: John Natvig, P.O. Box 688, Hot Springs, SD 57747, telephone (605) 745-3253, e-mail jnatvig@fs.fed.us.

Individuals who use telecommunication devices for the deaf (TDD) may call the Federal Information Relay Service (FIRS) at 1-800-877-8339 between 8 a.m. and 8 p.m., Eastern Time, Monday through Friday.

SUPPLEMENTARY INFORMATION:

Purpose and Need for Action

The purpose of the proposed action is to protect and enhance conditions in late successional forest ecosystems. The majority of the project area falls within lands identified by the Shasta-Trinity Land and Resource Management Plan as Late Successional Reserve (LSR), Managed Late Successional Area (MLSA) and Riparian Reserve. Protection includes reducing the risk of large-scale disturbance such as stand-replacing wildfires and epidemic forest insect and disease outbreaks. Fire exclusion over the last 100 years has created dense forest conditions which have a negative impact on tree vigor and forest health. Overstocked stands are stressed by competition for limited resources and are at risk to high levels of insect-caused mortality, especially during periods of drought. The closed canopy, mixed-conifer stands are densely stocked with pole-sized trees in the midstory and understory and pockets of dead and down wood. The combination of deadwood, understory and midstory ladder fuels creates fuel conditions that in the event of fire, could result in high fire intensities spreading fire from the understory into the crowns of overstory conifer trees. The stands are at risk of loss from stand-replacing wildfire during weather periods that support extreme fire behavior. Treatments that decrease surface, ladder and canopy fuels will make the area more resistant to stand-replacing wildfires.

A California-Oregon Transmission Project high voltage powerline crosses the project area. Interruption or loss of service associated with this powerline has the potential to impact a large number of electric users. Vegetation and fuel conditions in close proximity to the powerline should be treated so ground forces can control a wildfire under most fire weather conditions.

Hardwoods and meadows are important components of an ecosystem; however, hardwoods and meadows make up only a small portion of the project area (less than one percent). Wildfires that maintained early successional hardwoods and meadows have not occurred, or have been rare events since fire suppression efforts began in the early 1900s. Conifers gradually become established in both meadows and aspen stands. Hardwoods are desired as a stand component in LSRs/MLSAs. Therefore, actions are needed to maintain these sites as aspen or meadow.

Proper drainage of system roads is needed to minimize surface erosion. Culverts must also be fully functional and of proper size to facilitate area drainage to prevent erosion causing water flow over road surfaces. Reconstruction of system roads is needed to improve road drainage and replace culverts.

Proposed Action

The proposed action would reduce forest stocking and fuels on approximately 2,300 acres. In addition, 10 acres of meadow and aspen would be restored. Riparian Reserves would be treated in limited areas to improve or protect late-successional forest habitat. Project actions within Riparian Reserves would meet the objectives of the Aquatic Conservation Strategy in the Shasta-Trinity National Forest Land and Resource Management Plan. Overstocked early and mid-successional stands would be thinned to promote the development of late-successional stand characteristics and reduce the risk of stand loss due to epidemic insect-caused mortality. Thinning treatments would retain 10 percent or more of the stand in un-thinned patches and up to 15 percent of the stand would be in heavily thinned patches or openings up to ¼ acre in size for stand diversity. Canopy, ladder and surface fuels would be reduced through thinning and treatment of surface fuels and brush.

Open-road density will be decreased by decommissioning approximately ¼ mile of Forest System road and closing 10 miles of Forest System roads with gates, barricades, or earth berms. Erosion of existing roads would be reduced by improving road drainage, replacing culverts and surfacing roads with rock.

Forest stand treatments would be accomplished primarily through commercial harvest, yielding sawtimber and chip products. Trees would be felled, removed and processed with mechanized equipment. Harvested trees would be transported from the stump to central landing areas adjacent to roads where they would be limbed and processed into sawtimber logs or chips.

Responsible Official

J. Sharon Heywood, Forest Supervisor, Shasta-Trinity National Forest.

Nature of Decision To Be Made

The Forest Supervisor will decide whether to implement the proposed action, take an alternative action that meets the purpose and need or take no action.

Scoping Process and Comment Requested

This notice of intent initiates the scoping process, which guides the development of the environmental impact statement. The project is included in the Shasta-Trinity National Forest's quarterly schedule of proposed actions (SOPA). Information on the proposed action will be posted on the forest Web site, http://www.fs.fed.us/r5/shastatrinity/projects and advertised in both the Redding Record Searchlight and the Mount Shasta Herald. Comments submitted during this scoping process should be in writing and should be specific to the proposed action. Comments should describe as clearly and completely as possible any issues the commenter has with the proposal. The scoping process includes:

(a) Identifying potential issues.

(b) Identifying issues to be analyzed in depth.

(c) Eliminating non-significant issues or those previously covered by a relevant environmental analysis.

(d) Exploring additional alternatives.

(e) Identifying potential environmental effects of the proposed action and alternatives.

It is important that reviewers provide their comments at such times and in such manner that they are useful to the agency's preparation of the environmental impact statement. Therefore, comments should be provided prior to the close of the comment period and should clearly articulate the reviewer's concerns and contentions. The submission of timely and specific comments can affect a reviewer's ability to participate in subsequent administrative appeal or judicial review.

Early Notice of Importance of Public Participation in Subsequent Environmental Review: A draft environmental impact statement will be prepared for comment. The comment period on the draft environmental impact statement will be 45 days from the date the Environmental Protection Agency publishes the notice of availability in the Federal Register.

At this stage, it is important to note several court rulings related to public participation in the environmental review process. Reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. In addressing these points reviewers may wish to refer to the Council on Environmental Quality Regulations for implementing the procedural provisions of the National Environmental Policy Act at 40 CFR 1503.3.

Comments received, including the names and addresses of those who comment, will be considered part of the public record on this proposal and will be available for public inspection.

Authority: 40 CFR 1501.7 and 1508.22; Forest Service Handbook 1909.15, Section 21.

J. Sharon Heywood,
Forest Supervisor, Shasta-Trinity National Forest.

[FR Doc. E9-920 Filed 1-16-09; 8:45 am]

BILLING CODE 3410-11-M